DEPARTMENT OF ENERGY

Federal Energy Regulatory Commission

[Docket No. RP06-308-001]

Entrega Gas Pipeline LLC; Notice of Correction to Tariff Filing

April 26, 2006.

Take notice that on April 20, 2006, Rockies Express Pipeline LLC (Rockies Express), formerly Entrega Gas Pipeline LLC (Entrega), resubmitted the tariff sheets it filed on April 14, 2006, to correct the effective date contained in the footer of the tariff sheets to May 15, 2006, and to insert the sentence: “Filed to comply with order of the Federal Energy Regulatory Commission, Docket No. CP04-413-000, et al., issued on March 30, 2006, 114 FERC ¶ 61,326” on Sheet Nos. 108, 219 and 244.

Any person desiring to protest this filing must file in accordance with Rule 211 of the Commission's Rules of Practice and Procedure (18 CFR 385.211). Protests to this filing will be considered by the Commission in determining the appropriate action to be taken, but will not serve to make protestants parties to the proceeding. Such protests must be filed in accordance with the provisions of section 154.210 of the Commission's regulations (18 CFR 154.210). Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E6-6572 Filed 5-1-06; 8:45 am]

BILLING CODE 6717-01-P